DEPARTMENT OF AGRICULTURE

Forest Service

Newspapers To Be Used for Publication of Legal Notice of Appealable Decisions for the Southern Region; AL, KY, GA, TN, FL, LA, MS, VA, WV, AR, OK, NC, SC, TX and PR

AGENCY: Forest Service, USDA.

ACTION: Notice and correction.

SUMMARY: Deciding Officers in the Southern Region will publish notice of decisions subject to administrative appeal under 36 CFR part 217 in the legal notice section of the newspapers listed in the SUPPLEMENTARY INFORMATION section of this notice. As provided in 36 CFR part 217.5(d), the public shall be advised through Federal Register notice, of the newspaper of record to be utilized for publishing legal notice of decisions. Newspaper publication of notice of decisions is in addition to direct notice of decisions to those who have requested it and to those who have participated in project planning. The Responsible Official gave annual notice in the Federal Register published on April 8, 2005, of newspapers of record to be utilized for publishing notice of proposed actions and of decisions subject to appeal under 36 CFR part 215.5 and for publishing notice of opportunities to object to proposed authorized hazardous fuel reduction projects under 36 CFR part 218.4. The list of newspapers to be used for 215 notice and decision and 218 notice of objection opportunities is as listed in the SUPPLEMENTARY INFORMATION section of this notice with no changes from the April 8, 2005, publication.

DATES: Use of these newspapers for purposes of publishing legal notice of decisions subject to appeal under 36 CFR part 217 shall begin on or after the date of this publication.

FOR FURTHER INFORMATION CONTACT: Cheryl Herbster, Regional Appeals Coordinator, Southern Region, Planning, 1720 Peachtree Road, NW., Atlanta, Georgia 30309, Phone: 404-347-5245.

SUPPLEMENTARY INFORMATION: Deciding Officers in the Southern Region will give legal notice of decisions subject to appeal under 36 CFR part 217 in the following newspapers which are listed by Forest Service Administrative unit. Where more than one newspaper is listed for any Administrative unit, the first newspaper listed is the newspaper of record that will be utilized for publishing the legal notice of decisions and calculating timeframes. Secondary newspapers listed for a particular unit are those newspapers the Deciding Officer expects to use for purposes of providing additional notice. The timeframe for appeal shall be based on the date of publication of the legal notice of the decision in the newspaper of record. The following newspapers will be used to provide notice.

Southern Region

Regional Forester Decisions

Affecting National Forest System lands in more than one Administrative Unit of the 15 in the Southern Region, Atlanta Journal-Constitution, published daily in Atlanta, GA.

Affecting National Forest System lands in only one Administrative unit or only one Ranger District will appear in the newspaper of record elected by the National Forest, National Grassland, National Recreation Area, or Ranger District as listed below.

National Forests in Alabama, Alabama

Forest Supervisor Decision

Montgomery Advertiser, published daily in Montgomery, AL

District Ranger Decisions

Bankhead Ranger District: Northwest Alabamian, published bi-weekly (Wednesday & Saturday) in Haleyville, AL

Conecuh Ranger District: The Andalusia Star News, published daily (Tuesday through Saturday) in Andalusia, AL

Oakmulgee Ranger District: The Tuscaloosa News, published daily in Tuscaloosa, AL

Shoal Creek Ranger District: The Anniston Star, published daily in Anniston, AL

Talladega Ranger District: The Daily Home, published daily in Talladega, AL

Tuskegee Ranger District: Tuskegee News, published weekly (Thursday) in Tuskegee, AL

Caribbean National Forest, Puerto Rico

Forest Supervisor Decisions

El Nuevo Dia, published daily in Spanish in San Juan, PR

San Juan Star, published daily in English in San Juan, PR

Chattahoochee-Oconee National Forest, Georgia

Forest Supervisor Decisions

The Times, published daily in Gainesville, GA

District Ranger Decisions

Armuchee Ranger District: Walker County Messenger, published bi-weekly (Wednesday & Friday) in LaFayette, GA

Brasstown Ranger District: North Georgia News, (newspaper of record) published weekly (Wednesday) in Blairsville, GA

Towns County Herald, (secondary) published weekly (Thursday) in Hiawassee, GA

The Dahlonega Nuggett, (secondary) published weekly (Wednesday) in Dahlonega, GA

Chattooga Ranger District: Northeast Georgian, (newspaper of record) published bi-weekly (Tuesday & Friday) in Cornelia, GA

Chieftain & Toccoa Record, (secondary) published bi-weekly (Tuesday & Friday) in Toccoa, GA

White County News Telegraph, (secondary) published weekly (Thursday) in Cleveland, GA

The Dahlonega Nuggett, (secondary) published weekly (Thursday) in Dahlonega, GA

Cohutta Ranger District: Chatsworth Times, published weekly (Wednesday) in Chatsworth, GA

Oconee Ranger District: Eatonton Messenger, published weekly (Thursday) in Eatonton, GA

Tallulah Ranger District: Clayton Tribune, published weekly (Thursday) in Clayton, GA

Toccoa Ranger District: The News Observer (newspaper of record) published bi-weekly (Tuesday & Friday) in Blue Ridge, GA

The Dahlonega Nuggett, (secondary) published weekly (Wednesday) in Dahlonega, GA

Cherokee National Forest, Tennessee

Forest Supervisor Decisions

Knoxville News Sentinel, published daily in Knoxville, TN

District Ranger Decisions

Nolichucky-Unaka Ranger District: Greeneville Sun, published daily (except Sunday) in Greeneville, TN

Ocoee-Hiwassee Ranger District: Polk County News, published weekly (Wednesday) in Benton, TN

Tellico Ranger District: Monroe County Advocate, published tri-weekly (Wednesday, Friday, and Sunday) in Sweetwater, TN

Watauga Ranger District: Johnson City Press, published daily in Johnson City, TN

Daniel Boone National Forest, Kentucky

Forest Supervisor Decisions

Lexington Herald-Leader, published daily in Lexington, KY

District Ranger Decisions

London Ranger District: The Sentinel-Echo, published tri-weekly (Monday, Wednesday, and Friday) in London, KY

Morehead Ranger District: Morehead News, published bi-weekly (Tuesday and Friday) in Morehead, KY

Redbird Ranger District: Manchester Enterprise, published weekly (Thursday) in Manchester, KY

Somerset Ranger District: Commonwealth-Journal, published daily (Sunday through Friday) in Somerset, KY

Stanton Ranger District: The Clay City Times, published weekly (Thursday) in Stanton, KY

Stearns Ranger District: McCreary County Record, published weekly (Tuesday) in Whitley City, KY

National Forests in Florida, Florida

Forest Supervisor Decisions

The Tallahassee Democrat, published daily in Tallahassee, FL

District Ranger Decisions

Apalachicola Ranger District: Calhoun-Liberty Journal, published weekly (Wednesday) in Bristol, FL

Lake George Ranger District: The Ocala Star Banner, published daily in Ocala, FL

Osceola Ranger District: The Lake City Reporter, published daily (Monday-Saturday) in Lake City, FL

Seminole Ranger District: The Daily Commercial, published daily in Leesburg, FL

Wakulla Ranger District: The Tallahassee Democrat, published daily in Tallahassee, FL

Francis Marion & Sumter National Forests, South Carolina

Forest Supervisor Decisions

The State, published daily in Columbia, SC

District Ranger Decisions

Andrew Pickens Ranger District: The Daily Journal, published daily (Tuesday through Saturday) in Seneca, SC

Enoree Ranger District: Newberry Observer, published tri-weekly (Monday, Wednesday, and Friday) in Newberry, SC

Long Cane Ranger District: The State, published daily in Columbia, SC

Wambaw Ranger District: Post and Courier, published daily in Charleston, SC

Witherbee Ranger District: Post and Courier, published daily in Charleston, SC

George Washington and Jefferson National Forests, Virginia and West Virgina

Forest Supervisor Decisions

Roanoke Times, published daily in Roanoke, VA

District Ranger Decisions

Clinch Ranger District: Coalfield Progress, published bi-weekly (Tuesday and Thursday) in Norton, VA

Deerfield Ranger District: Daily News Leader, published daily in Staunton, VA

Dry River Ranger District: Daily News Record, published daily (except Sunday) in Harrisonburg, VA

Glenwood/Pedlar Ranger District: Roanoke Times, published daily in Roanoke, VA

James River Ranger District: Virginian Review, published daily (except Sunday) in Covington, VA

Lee Ranger District: Shenandoah Valley Herald, published weekly (Wednesday) in Woodstock, VA

Mount Rogers National Recreation Area: Bristol Herald Courier, published daily in Bristol, VA

New Castle Ranger District: Roanoke Times, published daily in Roanoke, VA

New River Ranger District: Roanoke Times, published daily in Roanoke, VA

Warm Springs Ranger District: The Recorder, published weekly (Thursday) in Monterey, VA

Kisatchie National Forest, Louisiana

Forest Supervisor Decisions

The Town Talk, published daily in Alexandria, LA

District Ranger Decisions

Calcasieu Ranger District: The Town Talk, (newspaper of record) published daily in Alexandria, LA

The Leesville Ledger, (secondary) published tri-weekly (Tuesday, Friday, and Sunday) in Leesville, LA

Caney Ranger District: Minden Press Herald, (newspaper of record) published daily in Minden, LA

Homer Guardian Journal, (secondary) published weekly (Wednesday) in Homer, LA

Catahoula Ranger District: The Town Talk, published daily in Alexandria, LA

Kisatchie Ranger District: Natchitoches Times, published daily (Tuesday thru Friday and on Sunday) in Natchitoches, LA

Winn Ranger District: Winn Parish Enterprise, published weekly (Wednesday) in Winnfield, LA

Land Between the Lakes National Recreation Area, Kentucky and Tennessee

Area Supervisor Decisions

The Paducah Sun, published daily in Paducah, KY

National Forests in Mississippi, Mississippi

Forest Supervisor Decisions

Clarion-Ledger, published daily in Jackson, MS

District Ranger Decisions

Bienville Ranger District: Clarion-Ledger, published daily in Jackson, MS

Chickasawhay Ranger District: Clarion-Ledger, published daily in Jackson, MS

Delta Ranger District: Clarion-Ledger, published daily in Jackson, MS

De Soto Ranger District: Clarion-Ledger, published daily in Jackson, MS

Holly Springs Ranger District: Clarion-Ledger, published daily in Jackson, MS

Homochitto Ranger District: Clarion-Ledger, published daily in Jackson, MS

Tombigbee Ranger District: Clarion-Ledger, published daily in Jackson, MS

National Forests in North Carolina, North Carolina

Forest Supervisor Decisions

The Asheville Citizen-Times, published daily in Asheville, NC

District Ranger Decisions

Appalachian Ranger District: The Asheville Citizen-Times, published daily in Asheville, NC

Cheoah Ranger District: Graham Star, published weekly (Thursday) in Robbinsville, NC

Croatan Ranger District: The Sun Journal, published daily (except Saturday) in New Bern, NC

Grandfather Ranger District: McDowell News, published daily in Marion, NC

Highlands Ranger District: The Highlander, published weekly (mid May-mid Nov, Tues & Fri; mid Nov-mid May, Tues only) in Highlands, NC

Pisgah Ranger District: The Asheville Citizen-Times, published daily in Asheville, NC

Tusquitee Ranger District: Cherokee Scout, published weekly (Wednesday) in Murphy, NC

Uwharrie Ranger District: Montgomery Herald, published weekly (Wednesday) in Troy, NC

Wayah Ranger District: The Franklin Press, published bi-weekly (Tuesday and Friday) in Franklin, NC

Ouachita National Forest, Arkansas and Oklahoma

Forest Supervisor Decisions

Arkansas Democrat-Gazette, published daily in Little Rock, AR

District Ranger Decisions

Caddo Ranger District: Arkansas Democrat-Gazette, published daily in Little Rock, AR

Fourche Ranger District: Arkansas Democrat-Gazette, published daily in Little Rock, AR

Jessieville/Winona Ranger District: Arkansas Democrat-Gazette, published daily in Little Rock, AR

Mena/Oden Ranger District: Arkansas Democrat-Gazette, published daily in Little Rock, AR

Oklahoma Ranger District (Choctaw; Kiamichi; and Tiak) Tulsa World, published daily in Tulsa, AR

Poteau/Cold Springs Ranger District: Arkansas Democrat-Gazette, published daily in Little Rock, AR

Womble Ranger District: Arkansas Democrat-Gazette, published daily in Little Rock, AR

Ozark-St. Francis National Forests, Arkansas

Forest Supervisor Decisions

The Courier, published daily (Tuesday through Sunday) in Russellville, AR

District Ranger Decisions

Bayou Ranger District: The Courier, published daily (Tuesday through Sunday) in Russellville, AR

Boston Mountain Ranger District: Southwest Times Record, published daily in Fort Smith, AR

Buffalo Ranger District: Newton County Times, published weekly in Jasper, AR

Magazine Ranger District: Southwest Times Record, published daily in Fort Smith, AR

Pleasant Hill Ranger District: Johnson County Graphic, published weekly (Wednesday) in Clarksville, AR

St. Francis National Forest: The Daily World, published daily (Sunday through Friday) in Helena, AR

Sylamore Ranger District: Stone County Leader, published weekly (Wednesday) in Mountain View, AR

National Forests and Grasslands in Texas, Texas

Forest Supervisor Decisions

The Lufkin Daily News, published daily in Lufkin, TX

District Ranger Decisions

Angelina National Forest: The Lufkin Daily News, published daily in Lufkin, TX

Caddo & LBJ National Grasslands: Denton Record-Chronicle, published daily in Denton, TX

Davy Crockett National Forest: The Lufkin Daily News, published daily in Lufkin, TX

Sabine National Forest: The Lufkin Daily News, published daily in Lufkin, TX

Sam Houston National Forest: The Courier, published daily in Conroe, TX

Dated: October 24, 2005.
Thomas A. Peterson,
Deputy Regional Forester.

[FR Doc. 05-21698 Filed 10-31-05; 8:45 am]

BILLING CODE 3410-11-M